NATIONAL AERONAUTICS AND SPACE ADMINISTRATION

[Notice 07-073]

Government-Owned Inventions, Available for Licensing

AGENCY: National Aeronautics and Space Administration.

ACTION: Notice of availability of inventions for licensing.

SUMMARY: The invention listed below assigned to the National Aeronautics and Space Administration, has been filed in the United States Patent and Trademark Office, and is available for licensing.

DATES: September 26, 2007.

FOR FURTHER INFORMATION CONTACT: Randy Heald, Patent Counsel, Kennedy Space Center, Mail Code CC-A, Kennedy Space Center, FL 32899; telephone (321) 867-7214; fax (321) 867-1817.

NASA Case No. KSC-12848: Foam/Aerogel Composite Materials for Thermal and Acoustic Insulation and Cryogen Storage;

NASA Case No. KSC-12890: Aerogel/Polymer Composite Materials;

NASA Case No. KSC-12978: Mechanical Alloying of a Hydrogenation Catalyst Used for the Remediation of Contaminated Compounds.

NASA Case No. KSC-13100: Ice Adhesion Mitigation.

Dated: September 19, 2007.
Keith T. Sefton,
Deputy General Counsel, Administration and Management.

[FR Doc. E7-18923 Filed 9-25-07; 8:45 am]

BILLING CODE 7510-13-P